FEDERAL TRADE COMMISSION

16 CFR Part 250

Guides for the Household Furniture Industry

AGENCY: Federal Trade Commission.

ACTION: Final rule; rescission of the guides for the household furniture industry.

SUMMARY: The Commission published a Federal Register document initiating the regulatory review of the Federal Trade Commission's (“Commission”) Guides for the Household Furniture Industry (“Furniture Guides” or “Guides”). The Commission has now completed its review, and determined to rescind the Furniture Guides.

EFFECTIVE DATE: March 5, 2002.

ADDRESSES: Requests for copies of the Federal Register document should be sent to the Consumer Response Center, Room 130, Federal Trade Commission, 600 Pennsylvania Avenue, NW., Washington, DC 20580. The document is available on the Internet at the Commission's website, http://www.ftc.gov.

FOR FURTHER INFORMATION CONTACT: Ingrid E. Whittaker-Ware, Attorney, Federal Trade Commission, 225 Peachtree Street, NE., Suite 1500, Atlanta, GA 30303, (404) 656-1390, e-mail <Iwware@ftc.gov>.

SUPPLEMENTARY INFORMATION: The Furniture Guides, promulgated by the Commission in 1973, provide guidance for industry members in the manufacture, sale, distribution, labeling and advertising of household furniture products. The Guides generally advise members of the furniture industry to make affirmative disclosures of product facts, which if known by a purchaser, might influence the purchasing decision. The specific disclosures concern identification of the types of wood and outer coverings or stuffings used in furniture. These disclosures were designed to protect consumers from being misled that the product is different from that which is actually being offered.

The Guides advise affirmative disclosure of the composition of a furniture item and specifies where and how the disclosure should be made. For example, Section 250.1(b) advises that a tag or label affirmatively describing the product be permanently affixed to the product until consummation of sale to a consumer, and that the same information be included in advertising for the product. The Guides also provide examples of deceptive and non-deceptive descriptions of wood and wood imitations to ensure that prospective purchasers are not misled by a product's appearance. In addition, the Guides provide that wood names or trade names not be used to describe materials that simulate the appearance of wood without clearly disclosing that such names are merely descriptive of color or other simulated finish.

The Commission has determined, as part of its oversight responsibilities, to review rules and industry guides periodically. These reviews seek information about the costs and benefits of the Commission's rules and guides, and their regulatory and economic impact. The information obtained assists the Commission in identifying rules and guides that warrant modification or rescission. The Commission solicited comments on the Furniture Guides in the Federal Register on April 10, 2000, 65 FR 18933. The comment period which was originally scheduled to end on June 9, 2000, was extended to July 10, 2000, at the request of members of the furniture industry.

The Commission received one comment. This comment was submitted by the American Furniture Manufacturers Association (“AFMA”). The AFMA expressed concern that the Guides, as currently written, have little practical use to members of the furniture industry due to significant changes in technology and terminology since the Guides were first promulgated. It noted that

[T]he existing Guides are almost thirty years old, and fail to reflect current manufacturing processes, materials usage, terminology and the expectations of today's consumers. As currently drafted, the Guides may indeed frustrate good faith efforts to inform the consumer and therefore produce unintended anti-competitive and anti-consumer consequences.

AFMA Comments to the Federal Trade Commission on Guides for the Household Furniture Industry, July 10, 2000, at 3

The AFMA also suggests that it was the consensus of members of the industry that if the Guides were to be retained it would be necessary that they undergo significant modifications. The Commission received no comments from any consumer group.

In the almost thirty years since the Guides were issued, the Commission has not received any complaints relating to practices covered by these Guides. Further, within the last ten years the Commission has not had need to initiate any enforcement action relating in any way to these Guides. Moreover, the Commission's unfettered ability to pursue actions against members of this industry for engaging in unfair and deceptive acts and practices under section 5 of the FTC Act, 15 U.S.C. 45, should deter manufacturers and sellers from misleading consumers in the future in the labeling, advertising or sale of household furniture products. If, in the future, deceptive practices prove to be a problem in this industry, however, the Commission may pursue enforcement actions as needed on a case-by-case basis.

For the reasons explained in this notice, the Commission has determined not to revise the Furniture Guides substantially in order to bring them up to date, but instead to rescind the Guides because they are no longer necessary.

List of Subjects in 16 CFR Part 250

Forest and forest products, Furniture industry, Trade practices.

PART 250—[REMOVED]

The Commission, under authority of sections 5(a)(1) and 6(g) of the Federal Trade Commission Act, 15 U.S.C. 45(a)(1) and 46(g), amends Chapter 1 of Title 16 of the Code of Federal Regulations by removing Part 250.

By direction of the Commission.
Donald S. Clark,
Secretary.

[FR Doc. 02-5126 Filed 3-4-02; 8:45 am]

BILLING CODE 6750-01-M